FEDERAL COMMUNICATIONS COMMISSION

47 CFR Part 73

[DA 03-4036; MB Docket No. 02-114; RM-10426]

Radio Broadcasting Services; Carrollton, Gurley, Meridianville, and Tuscumbia, AL

AGENCY: Federal Communications Commission.

ACTION: Final rule.

SUMMARY: In response to a Notice of Proposed Rulemaking, 67 FR 40907 (June 14, 2002), this document grants a petition for rulemaking filed jointly by Capstar TX Limited Partnership, licensee of Station WXQW(FM), Meridianville, Alabama, and Clear Channel Broadcasting Licenses, Inc., licensee of Stations WLAY-FM, Tuscumbia, Alabama, and WZBQ, Carrollton, Alabama. Channel 231A is reallotted from Meridianville, Alabama to Gurley, Alabama and the license of Station WXQX(FM) is modified to reflect the change of community. Channel 262C2 is substituted for Channel 262C1 at Tuscumbia, Alabama, and Channel 262C2 is reallotted from Tuscumbia to Meridianville, Alabama, and the license of Station WLAY-FM is modified to reflect the change of community. Last, Station WZBQ(FM), Carrollton, Alabama, is downgraded from Channel 231C to Channel 231C0 to accommodate the modification at Gurley and its license is modified accordingly. Channel 231A is allotted at Gurley at a site 12.8 kilometers (8.0 miles) northwest of the community at coordinates 34-44-29 NL and 86-30-26 NL. Channel 262C2 is allotted at Meridianville at a site 15.6 kilometers (9.7 miles) west of the community at coordinates 34-49-06 NL and 86-44-16 WL. Channel 231C0 is allotted at Carrollton at Station WZBQ's licensed site at coordinates 33-13-6 NL and 88-5-46 WL. See SUPPLEMENTARY INFORMATION.

DATES: Effective February 6, 2004.

FOR FURTHER INFORMATION CONTACT: Victoria M. McCauley, Media Bureau, (202) 418-2180.

SUPPLEMENTARY INFORMATION: This is a synopsis of the Commission's Report and Order, MB Docket No. 02-114, adopted December 18, 2003, and released December 23, 2003. The reallotment from Tuscumbia to Meridianville is conditioned on the reallotment of Station WWWQ(FM), Channel 263C, Anniston, Alabama to College Park, Georgia that was granted in MM Docket No. 98-112 and is effective but not final. No construction is to commence for any of the changes approved in this Order until finality has occurred in MM Docket 98-112. Operating authority for Station WLAY-FM, Channel 262C2 at Meridianville may not be granted until operations have commenced by Station WWWQ(FM), Channel 263C at College Park, Georgia.

The full text of this Commission decision is available for inspection and copying during normal business hours in the FCC Reference Center (Room 239), 445 12th Street, SW., Washington, DC. This document may also be purchased from the Commission's duplicating contractor, Qualex International, Portals II, 445 12th Street, SW., Room CY-B402, Washington, DC 20554, telephone (202) 863-2893, facsimile (202) 863-2898, or via e-mail qualexint@aol.com.

List of Subjects in 47 CFR Part 73

Radio, Radio broadcasting.

Part 73 of Title 47 of the Code of Federal Regulations is amended as follows:

PART 73—RADIO BROADCAST SERVICES

1. The authority citation for part 73 continues to read as follows:

Authority: 47 U.S.C. 154, 303, 334, and 336.

§ 73.202 [Amended]

2. Section 73.202(b), the Table of FM Allotments under Alabama, is amended by removing Channel 231C and adding Channel 231C0 at Carrollton, by adding Gurley, Channel 231A, by adding Channel 262C2 at Meridianville and by removing Channel 262C1 at Tuscumbia.

Federal Communications Commission.
John A. Karousos,
Assistant Chief, Audio Division, Media Bureau.

[FR Doc. 04-107 Filed 1-5-04; 8:45 am]

BILLING CODE 6712-01-P